COMMITTEE FOR PURCHASE FROM PEOPLE WHO ARE BLIND OR SEVERELY DISABLED

Procurement List Proposed Addition; Correction

In the document appearing on page 22516, FR Doc. 01-11304, in the issue of May 4, 2001, in the first and second column the Committee published a notice of proposed addition to the Procurement List of, among other things, Flag, National, Interment, National Stock Number (NSN) 8345-00-656-1432, (An additional 20% of the Government requirement or 360,000 flags, whichever is greater). This notice is amended to delete the additional flag requirement, which is being withdrawn from consideration for addition to the Procurement List.

Louis R. Bartalot,
Director, Program Analysis and Evaluation.

[FR Doc. 01-15141 Filed 6-14-01; 8:45 am]

BILLING CODE 6353-01-P